DEPARTMENT OF DEFENSE

Department of the Army; Corps of Engineers

Economic and Environmental Principles and Guidelines for Water and Related Land Resources Implementation Studies; Initiation of Revision and Request for Suggested Changes

AGENCY: Department of the Army, U.S. Army Corps of Engineers, DoD.

ACTION: Request for suggestions and notice of public meeting.

SUMMARY: Section 2031 of the Water Resources Development Act of 2007 (Pub. L. 110-114) directs the Secretary of the Army to revise the “Economic and Environmental Principles and Guidelines for Water and Related Land Resources Implementation Studies”, dated March 10, 1983 consistent with a number of considerations enumerated in the statute. Upon completion the revision will apply to water resources projects, project reevaluations, or project modifications and project feasibility studies carried out by the Secretary except those commenced prior to the completion of the revised guidance. The Secretary intends to craft the revision in two phases, with the first phase of this revision to address revisions to the 1983 Principles and Standards (Chapter I of the existing Guidelines) and the second phase to address revisions to the Procedures (Chapters II through IV of the 1983 Guidelines). The purpose of this notice is to provide opportunity for interested individuals and organizations to submit suggestions for revising the Principles and Standards. Using that input the Secretary intends for the initial draft of the revision to be prepared in June and released for public comments by July.

DATES: A public meeting to hear recommendations will be held on June 5, 2008. Written suggestions are being accepted now and will be accepted through the end of the public meeting, 5 p.m., June 5, 2008.

ADDRESSES: Suggestions should be submitted in writing to HQUSACE, Attn: P&G Revision, CECW-ZA, 441 G Street, NW, Washington, DC 20314-1000, by E-mail to: larry.j.prather@usace.army.mil or FAX: 202-761-5649.

FOR FURTHER INFORMATION CONTACT: Larry J. Prather, Assistant Director of Civil Works, at 202-761-0106.

SUPPLEMENTARY INFORMATION: Section 2031 of the Water Resources Development Act of 2007 (Pub. L. 110-114) directs the Secretary of the Army to revise the “Economic and Environmental Principles and Guidelines for Water and Related Land Resources Implementation Studies”, dated March 10, 1983 and when completed to apply the revision to planning studies of water resources projects within his jurisdiction. The Secretary is initiating the first phase of this revision to include the 1983 Principles and Standards (Chapter I of the Guidelines). Revision of Chapters II through IV of the Guidelines will be initiated at a later date. The Secretary requests interested individuals and organizations to submit suggestions for revision of the 1983 Principles and Standards. In view of subparagraph (b)(5)(A)(ii) of Section 2031 of the Public Law 110-114, the Secretary requests that each suggested revision be accompanied by a statement of the intent of the revision. Written suggestions (by mail, fax, or e-mail) are preferred and should be submitted to (see ADDRESSES).

In addition, the Assistant Secretary of the Army (Civil Works) and staff of the United States Army Corps of Engineers will hold a public meeting to hear suggestions for proposed revisions on June 5, 2008 in the Atrium Ballroom; Washington Court Hotel; 525 New Jersey Avenue, NW; Washington, DC from 8:30 a.m. to 5 p.m. Those wishing to make oral suggestions and ask questions are encouraged to attend this meeting but written suggestions will be appreciated even if an interested party wishes to provide suggestions orally. To facilitate oral suggestions for revision, the time available for making oral suggestions will be divided among those wishing to speak by a random drawing. To accommodate those who may be able to participate for only part of the day, one drawing will be held at the start of the meeting for the morning time blocks and another at about 1 p.m. for the afternoon time slots.

Interested individuals and organizations may request copies of the following documents by mail or e-mail or access them at the Internet addresses indicated: “Economic and Environmental Principles and Guidelines for Water and Related Land Resources Implementation Studies, dated March 10, 1983 (http://www.usace.army.mil/cw/cecw-cp/library/Principles_Guidelines.pdf), Water Resources Development Act of 2007 (Pub. L. 110-114) (http://www.usace.army.mil/cw/cecw-cp/links/wrda2007_hr1495.pdf).

Brenda S. Bowen,
Army Federal Register Liaison Officer.

[FR Doc. E8-10288 Filed 5-7-08; 8:45 am]

BILLING CODE 3710-92-P